DEPARTMENT OF STATE

[Public Notice 8572]

Shipping Coordinating Committee; Notice of Committee Meeting

The Shipping Coordinating Committee (SHC) will conduct an open meeting at 9:30 a.m. on Tuesday, January 21, 2014 in the Alexander Hamilton Room (AHR), 9th floor, of the United States Coast Guard (USCG) Personnel Service Center (PSC), 4200 Wilson Boulevard, Suite 1100, Arlington, VA 20598-7200. The primary purpose of the meeting is to prepare for the first Session of the International Maritime Organization's (IMO) Sub-Committee on Pollution Prevention and Response (PPR) to be held at the IMO Headquarters, United Kingdom, February 03-07, 2014.

The agenda items to be considered include:

—Adoption of the agenda

—Decisions of other IMO bodies

—Evaluation of safety and pollution hazards of liquid chemicals and preparation of consequential amendments to the IBC Code

—Development of a code for the transport and handling of limited amounts of hazardous and noxious liquid substances in bulk on offshore support vessels

—Additional guidelines for implementation of the BWM Convention

—Production of a manual entitled “Ballast Water Management—How to do it”

—Improved and new technologies approved for ballast water management systems and reduction of atmospheric pollution

—Consideration of the impact on the Arctic of emissions of Black Carbon from international shipping

—Review of relevant non-mandatory instruments as a consequence of the amended MARPOL Annex VI and the NOX Technical Code

—Implementation of the OPRC Convention and the OPRC-HNS Protocol and relevant Conference resolutions

—Consideration of IACS unified interpretations

—Casualty analysis

—Biennial agenda and provisional agenda for PPR 2

—Election of Chairman and Vice-Chairman for 2015

—Any other business

—Report to the Marine Environment Protection Committee

Members of the public may attend this meeting up to the seating capacity of the room. To facilitate the building security process, and to request reasonable accommodation, those who plan to attend should contact the meeting coordinator, Mr. Timothy Brown, by email at timothy.m.brown@uscg.mil, by phone at 202-372-2358, by fax at (202) 372-8383, or in writing at Commandant (CG-5PS), U.S. Coast Guard, 2703 Martin Luther King Jr. Ave. SE., Stop 7509, Washington, DC 20593-7509 not later than January 10, 2014, 7 days prior to the meeting. Requests made after January 10, 2014 might not be able to be accommodated. Please note that due to security considerations, two valid, government issued photo identifications must be presented to gain entrance to the building. The USCG Offices in the Ballston Commons Plaza are located above the Ballston Common Mall in Arlington, VA. It can be reached by driving and is conveniently located next to the Ballston Metro Station. Additional information regarding this and other IMO SHC public meetings may be found at: www.uscg.mil/imo.

Dated: December 17, 2013.
Marc Zlomek,
Executive Secretary, Shipping Coordinating Committee, Department of State.

[FR Doc. 2013-30675 Filed 12-23-13; 8:45 am]

BILLING CODE 4710-09-P